DEPARTMENT OF COMMERCE

National Oceanic and Atmospheric Administration

50 CFR Part 660

[Docket No. 130822744-4144-02]

RIN 0648-BD63

Fisheries Off West Coast States; Coastal Pelagic Species Fisheries; Change to Start of Pacific Sardine Fishing Year

AGENCY: National Marine Fisheries Service (NMFS), National Oceanic and Atmospheric Administration (NOAA), Commerce.

ACTION: Final rule.

SUMMARY: NMFS issues this final rule to change the starting date of the annual Pacific sardine fishery from January 1 to July 1. This changes the annual fishing season from one based on the calendar year to one based on a July 1 through the following June 30th schedule. No other changes to the annual allocation structure are being made and the existing seasonal allocation percentages will remain as specified in the FMP, as would the current quota roll-over provisions. This rule also establishes a one-time interim harvest allocation period from January 1, 2014 through June 30, 2014 to allow for continued fishing during the transition from a January to July start of the fishing season. The purpose of this final rule is to better align the timing of the research and science that is used in the annual stock assessments with the annual management schedule. To enable this transition in fishing years, this action also establishes a one-time interim harvest period for the 6 months from January 1, 2014, through June 30, 2014.

DATES: Effective March 31, 2014.

FOR FURTHER INFORMATION CONTACT: Joshua Lindsay, West Coast Region, NMFS, (562) 980-4034.

SUPPLEMENTARY INFORMATION: This final rule changes the start date of the 12-month Pacific sardine fishery from January 1 to July 1, thus changing the fishing season for Pacific sardine from one based on the calendar year to one beginning on July 1 and continuing through June 30th of the following year. The purpose of this change is to better align the timing of the research and science used in the annual stock assessments with the annual management schedule, as the present schedule imposes substantial challenges in terms of survey data availability relative to the timing of stock assessments.

Because the 2013 fishing season ended on December 31, 2013, this rule also establishes a one-time interim harvest allocation period from January 1, 2014 through June 30, 2014 to allow for continued fishing during the transition from a January to July start of the fishing season. At the November 2013 Pacific Fishery Management Council (Council) meeting, the Council took action on setting the quota for the January 2014 through June 2014 period. The harvest specifications for this interim allocation period are being implemented through a separate rulemaking action, for which a proposed rule published on February 4, 2014. (79 FR 6527) Although the interim harvest specifications will include an Overfishing Limit (OFL), Acceptable Biological Catch (ABC) and Annual Catch Limit (ACL) for calendar year 2014, those specifications are expected to be replaced based on the new stock assessment and Council action in April 2014.

On December 23, 2013, a proposed rule was published for this action and public comments solicited (78 FR 77413). NMFS received no comments on the proposed rule. For further background about this rule, please refer to the proposed rule.

Classification

Pursuant to section 304(b)(1)(A) of the Magnuson-Stevens Fishery Conservation and Management Act, the Assistant Administrator, NMFS, has determined that this final rule is consistent with the CPS FMP, other provisions of the Magnuson-Stevens Fishery Conservation and Management Act, and other applicable laws.

This rule has been determined to be not significant for purposes of Executive Order 12866.

The Chief Counsel for Regulation of the Department of Commerce certified to the Chief Counsel for Advocacy of the Small Business Administration during the proposed rule stage that this action would not have a significant economic impact on a substantial number of small entities. The factual basis for the certification was published in the proposed rule and is not repeated here. No comments were received regarding this certification. As a result, a regulatory flexibility analysis was not required and none was prepared.

This action does not contain a collection-of-information requirement for purposes of the Paperwork Reduction Act.

List of Subjects in 50 CFR Part 660

Fisheries, Fishing, Indians.

Dated: February 21, 2014.
Samuel D. Rauch III,
Deputy Assistant Administrator for Regulatory Programs, National Marine Fisheries Service.

For the reasons set out in the preamble, NMFS amends 50 CFR part 660 as follows:

PART 660—FISHERIES OFF WEST COAST STATES

1. The authority citation for part 660 continues to read as follows:

Authority: 16 U.S.C. 1801 et seq.

2. In § 660.510, paragraph (a) is revised to read as follows:

§ 660.510 Fishing seasons.

* * * * *

(a) Pacific sardine. July 1 to June 30, or until closed under § 660.509.

* * * * *

3. In § 660.511, paragraphs (f) through (h) are revised to read as follows:

§ 660.511 Catch restrictions.

* * * * *

(f) On July 1, 40 percent of the initial harvest guideline for Pacific sardine is allocated coastwide within the fishery management area.

(g) On September 15, 25 percent of the initial harvest guideline for Pacific sardine plus the remaining unharvested portion of the July 1 allocation in paragraph (f) of this section is allocated coastwide within the fishery management area.

(h) On January 1, 35 percent of the initial harvest guideline for Pacific sardine plus the remaining unharvested portion of the September 15 allocation is allocated coastwide within the fishery management area.

[FR Doc. 2014-04376 Filed 2-27-14; 8:45 am]

BILLING CODE 3510-22-P